DEPARTMENT OF COMMERCE

International Trade Administration

A-552-801

Certain Frozen Fish Fillets from the Socialist Republic of Vietnam: Extension of Time Limit for Final Results of the New Shipper Reviews

AGENCY: Import Administration, International Trade Administration, Department of Commerce.

EFFECTIVE DATE: May 20, 2008.

FOR FURTHER INFORMATION CONTACT: Julia Hancock, AD/CVD Operations, Office 9, Import Administration, International Trade Administration, U.S. Department of Commerce, 14th Street and Constitution Avenue, N.W., Washington, D.C. 20230; telephone: (202) 482-1394.

SUPPLEMENTARY INFORMATION:

Background

On February 1, 2008, the Department of Commerce (“Department”) issued the preliminary results of the shipper reviews for Vinh Quang Fisheries Corporation (“Vinh Quang”), Ngoc Thai Company (“Ngoc Thai”), and Anvifish Co., Ltd. (“Anvifish”). See Certain Frozen Fish Fillets from the Socialist Republic of Vietnam: Partial Rescission and Preliminary Results of the First New Shipper Review, 73 FR 6125 (February 1, 2008) (“Preliminary Results”). The Department extended the final results 30 days until May 21, 2008. See Certain Frozen Fish Fillets from the Socialist Republic of Vietnam: extension of time Limit for Final Results of the New Shipper Reviews, 73 FR 15478 (March 24, 2008).

Extension of Time Limits for Final Results

Section 751(a)(2)(B)(iv) of the Tariff Act of 1930, as amended (the “Act”), and 19 CFR 351.214(i)(1) require the Department to issue the preliminary results of a new shipper review within 180 days after the date on which the new shipper review was initiated and final results of a review within 90 days after the date on which the preliminary results were issued. The Department may, however, extend the deadline for completion of the final results of a new shipper review to 150 days if it determines that the case is extraordinarily complicated. See section 751(a)(2)(B)(iv) of the Act, and 19 CFR 351.214(i)(2).

The Department is extending the deadline for the completion of the final results of these new shipper reviews of the antidumping duty order on certain frozen fish fillets from Vietnam because the case is extraordinarily complicated. The Department preliminarily rescinded the new shipper review with respect to Vinh Quang, however, the Department resumed the review of Vinh Quang based on additional analysis and party comments. In addition, the Department has received additional surrogate value information and case and rebuttal briefs concerning complicated issues. The Department needs additional time to properly consider this information for the final results. Therefore, the completion of the final results of these new shipper reviews is extended by an additional 30 days to June 20, 2008.

We are issuing and publishing this notice in accordance with sections 751(a)(2)(B) and 777(i)(1) of the Act.

Dated: May 13, 2008.
Stephen J. Claeys,
Deputy Assistant Secretary for Import Administration,

[FR Doc. E8-11298 Filed 5-19-08; 8:45 am]

BILLING CODE 3510-DS-S